DEPARTMENT OF LABOR

Employment and Training Administration

[TA-W-60,882]

Camaco, LLC; Mariana Division, Marianna, AR; Notice of Negative Determination Regarding Application for Reconsideration

By application dated April 4, 2007, a company official requested administrative reconsideration of the Department's negative determination regarding eligibility for workers and former workers of the subject firm to apply for Trade Adjustment Assistance (TAA) and Alternative Trade Adjustment Assistance (ATAA). The denial notice was signed on March 16, 2007 and published in the Federal Register on March 30, 2007 (72 FR 15168).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Camaco, LLC, Marianna Division, Marianna, Arkansas engaged in production of automotive parts, such as metal seat frames, brackets and reinforcement was denied because the “contributed importantly” group eligibility requirement of Section 222 of the Trade Act of 1974 was not met. The “contributed importantly” test is generally demonstrated through a survey of the workers' firm's customers. The survey revealed no imports of automotive parts, such as metal seat frames, brackets and reinforcement in 2005, 2006 and January of 2007 when compared with January of 2006. The subject firm did not import automotive parts, such as metal seat frames, brackets and reinforcement in the relevant period nor did it shift production to a foreign country.

In the request for reconsideration, the petitioner stated that the subject firm made parts for a company which shifted production to Mexico. As a result of this shift, the subject firm experienced declines in sales. Therefore, workers of the subject firm should be eligible for TAA and ATAA.

A company official was contacted to verify the business relationship between the subject firm and the alleged company. The company official stated that the company mentioned in the request for reconsideration was not the subject firm's customer and that the subject firm did not sell parts directly to this firm during the relevant time period. Because the alleged company was not the subject firm's customer during the relevant time period, any information regarding business activities of this company is not relevant to this investigation.

The request for reconsideration also states that “some of the equipment that was utilized here at CAMACO-Marianna is being sent to India to be used at a manufacturing facility there for production of automotive parts.”

Further contact with the company official confirmed that CAMACO, LLC, Marianna Division, Marianna, Arkansas is planning to shift a portion of its manufacturing equipment from Marianna, Arkansas to India. The company official further indicated that no production has been moved from the Marianna facility to India as of April 12, 2007, and no time line was established to when this may occur.

Should the shift to India occur, the petitioner is encouraged to file a new petition on behalf of workers at the CAMACO, LLC, Marianna Division, Marianna, Arkansas, thereby creating a relevant period of investigation that would include changing conditions.

The petitioner further refers to the TAA certifications issued to various businesses and industries located in Marianna, Arkansas. The petitioner alleges that because the subject firm has been the largest employer in Marianna, Arkansas and hence other companies in the area were certified eligible for TAA, workers of the subject firm should also be eligible.

A review of other businesses is not relevant to an investigation concerning import impact on workers applying for trade adjustment assistance. As noted above, “contributed importantly” test is generally demonstrated through a survey of customers of the workers' firm to examine the direct impact on a specific firm. No increased imports were evidenced during the survey of subject firm's customers and the subject firm did not shift production to a foreign country.

Conclusion

After review of the application and investigative findings, I conclude that there has been no error or misinterpretation of the law or of the facts which would justify reconsideration of the Department of Labor's prior decision. Accordingly, the application is denied.

Signed at Washington, DC, this 13th day of April, 2007.
Elliott S. Kushner,
Certifying Officer, Division of Trade Adjustment Assistance.

[FR Doc. E7-7726 Filed 4-23-07; 8:45 am]

BILLING CODE 4510-FN-P